DEPARTMENT OF COMMERCE

International Trade Administration

[A-570-891]

Hand Trucks and Certain Parts Thereof From the People's Republic of China: Final Results of Antidumping Duty Administrative Review; 2010-2011

AGENCY: Import Administration, International Trade Administration, Department of Commerce.

DATES: Effective Date: May 16, 2013.

SUMMARY: On January 9, 2013, the Department of Commerce (the Department) published in the Federal Register its preliminary results of the administrative review of the antidumping duty order ¹ on hand trucks and certain parts thereof (hand trucks) from the People's Republic of China (PRC).² The period of review (POR) is December 1, 2010, through November 30, 2011. We gave interested parties an opportunity to comment on the Preliminary Results. Based upon our analysis of the comments and information received, we made changes to the margin calculations for these final results. The final dumping margins are listed below in the “Final Results of the Review” section of this notice. In addition, we are rescinding this review with respect to WelCom Products, Inc. (WelCom), Yangjiang Shunhe Industrial Co., Ltd. and Yangjiang Shunhe Industrial & Trade Co., Ltd. (collectively, Shunhe), and Yuhuan Tongsheng Industry Company (Tongsheng) at this time (see “Final Partial Rescission,” infra).

¹ See Notice of Antidumping Duty Order: Hand Trucks and Certain Parts Thereof From the People's Republic of China, 69 FR 70122 (December 2, 2004).

² See Hand Trucks and Certain Parts Thereof From the People's Republic of China: Preliminary Results of the 2010-2011 Antidumping Duty Administrative Review, 78 FR 1835 (January 9, 2013) (Preliminary Results), and accompanying Decision Memorandum (Preliminary Decision Memorandum).

FOR FURTHER INFORMATION CONTACT: Scott Hoefke, or Robert James, AD/CVD Operations, Office 7, Import Administration, International Trade Administration, U.S. Department of Commerce, 14th Street and Constitution Avenue NW., Washington, DC 20230; telephone: (202) 482-4947 or (202) 482-0649, respectively.

SUPPLEMENTARY INFORMATION:

Comments From Interested Parties

In accordance with 19 CFR 351.309(c)(1)(ii), we invited parties to comment on our Preliminary Results. On January 29, 2013, Gleason Industrial Products, Inc., and Precision Products, Inc. (collectively, petitioners) submitted surrogate value (SV) comments.³ On February 8, 2013, petitioners submitted SV rebuttal comments. On February 8, 2013, petitioners and Cosco submitted case briefs. On February 19, 2013, the Department rejected Petitioners' February 8, 2013, case brief, because it contained bracketing errors and certain untimely filed new information. Petitioners submitted a revised case brief on February 21, 2013.⁴ On February 13, 2013, petitioners, New-Tec Integration (Xiamen) Co., Ltd. (New-Tec), and Cosco submitted rebuttal briefs.

³ Cosco Home and Office Products (Cosco) submitted SV comments on January 29, 2013, which were subsequently rejected by the Department on February 7, 2013 because they were found to be not factual information nor new information. See Department's letter to Cosco (February 7, 2013).

⁴ See New-Tec's letter, Re: Hand Trucks from China; Request to Reject New Factual Information Contained in Petitioners' Case Brief (February 13, 2013); see also Department's letter to Petitioners (February 19, 2013).

Scope of the Order

The merchandise subject to the order consists of hand trucks manufactured from any material, whether assembled or unassembled, complete or incomplete, suitable for any use, and certain parts thereof, namely the vertical frame, the handling area and the projecting edges or toe plate, and any combination thereof. They are typically imported under heading 8716.80.50.10 of the Harmonized Tariff Schedule of the United States (HTSUS), although they may also be imported under heading 8716.80.50.90 and 8716.90.50.60. Although the HTSUS subheadings are provided for convenience and customs purposes, the written product description remains dispositive.⁵

⁵ See Memorandum to Paul Piquado, “Issues and Decision Memorandum for the Final Results in the Administrative Review of Hand Trucks and Certain Parts Thereof from the People's Republic of China” (May 9, 2013) (Final Issues and Decision Memorandum), dated concurrent with and adopted by this notice, for a complete description of the Scope of the Order.

Analysis of Comments Received

All issues raised in the case and rebuttal briefs by parties are addressed in the accompanying Final Issues and Decision Memorandum.⁶ A list of the issues which parties raised is attached to this notice as Appendix I. The Final Issues and Decision Memorandum is a public document and is on file in the Central Records Unit (CRU), Room 7046 of the main Department of Commerce building, as well as electronically via Import Administration's Antidumping and Countervailing Duty Centralized Electronic Service System (IA ACCESS). IA ACCESS is available to registered users at http://iaaccess.trade.gov and in the CRU. In addition, a complete version of the Final Issues and Decision Memorandum can be accessed directly on the internet at http://www.trade.gov/ia/. The signed I&D Memo and electronic versions of the Final Issues and Decision Memorandum are identical in content.

⁶ See id.

Final Partial Rescission

In the Preliminary Results, the Department preliminarily rescinded the review with respect to WelCom, Shunhe, and Tongsheng. Subsequent to the Preliminary Results, the Department did not receive any comments or information which indicated that these companies should be reviewed. Therefore, pursuant to 19 CFR 351.213 (d)(1) and 19 CFR 351.213 (d)(3), we are rescinding the administrative review with respect to these three companies.

Changes Since the Preliminary Results

Based on a review of the record and comments received from interested parties regarding our Preliminary Results, we made certain revisions to the margin calculations for New-Tec.⁷

⁷ See Memorandum to the File, “Analysis for the Final Results of Hand Trucks and Certain Parts Thereof from the People's Republic of China: New-Tec” (May 9, 2013).

Separate Rates Determination

In our Preliminary Results, we determined that New-Tec met the criteria for separate rate status. We have not received any information since issuance of the Preliminary Results that provides a basis for reconsidering this preliminary determination. Therefore, the Department continues to find that New-Tec meets the criteria for a separate rate.

Final Results of the Review

The Department has determined that the following final dumping margins exist for the period December 1, 2010, through November 30, 2011:

Manufacturer/exporter | Weighted- average margin (percent)
New-Tec Integration (Xiamen) Co., Ltd. | 9.21

Assessment

Upon issuance of the final results, the Department will determine, and U.S. Customs and Border Protection (“CBP”) shall assess, antidumping duties on all appropriate entries. The Department intends to issue assessment instructions to CBP 15 days after the date of publication of the final results of review. The Department recently announced a refinement to its assessment practice in non-market economy (NME) cases.⁸ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.⁹

⁸ See Non-Market Economy Antidumping Proceedings: Assessment of Antidumping Duties, 76 FR 65694 (October 24, 2011).

⁹ See id.

Cash Deposit Requirements

The following cash deposit requirements will be effective upon publication of the final results of this administrative review for all shipments of subject merchandise entered, or withdrawn from warehouse, for consumption on or after the publication, as provided for by section 751(a)(2)(C) of the Act: (1) The cash deposit rate for New-Tec, which has a separate rate, will be that established in the final results of this review; (2) for any previously reviewed or investigated PRC and non-PRC exporter not listed above that received a separate rate in a previous segment of this proceeding, the cash deposit rate will continue to be the existing exporter-specific rate; (3) for all PRC exporters that have not been found to be entitled to a separate rate, the cash deposit rate will be that for the PRC-wide entity (i.e., 383.60 percent); and (4) for all non-PRC exporters of subject merchandise which have not received their own rate, the cash deposit rate will be the rate applicable to the PRC exporter that supplied the non-PRC exporter. These cash deposit requirements, when imposed, shall remain in effect until further notice.

Notification to Importers

This notice serves as a final reminder to importers of their responsibility under 19 CFR 351.402(f) to file a certificate regarding the reimbursement of antidumping duties prior to liquidation of the relevant entries during the POR. Failure to comply with this requirement could result in the Department's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and terms of an APO is a violation which is subject to sanction.

Disclosure

The Department will disclose the calculations performed within five days of the date of publication of this notice to parties in this proceeding in accordance with 19 CFR 351.224(b). We are issuing and publishing this administrative review and notice in accordance with sections 751(a)(1) and 777(i)(1) of the Act and 19 CFR 351.213.

Dated: May 9, 2013.
Paul Piquado,
Assistant Secretary for Import Administration.

Appendix I

List of Comments Discussed in the Accompanying Final Issues and Decision Memorandum

Comment 1: Whether to Value Certain Inputs Using Purchases from Market-Economy Suppliers

Comment 2: Surrogate Country

Comment 3: Exclusion of Imports from FOP Calculations

Comment 4: Whether to use Thai Trolley's Financial Statement

Comment 5: Use of Jenbunjerd's Financial Statement

Comment 6: Wheels

Comment 7: Sodium Gluconate

[FR Doc. 2013-11683 Filed 5-15-13; 8:45 am]

BILLING CODE 3510-DS-P